DEPARTMENT OF AGRICULTURE

Forest Service

Olympic Provincial Advisory Committee

AGENCY: Forest Service, USDA.

ACTION: Notice of meeting.

SUMMARY: The Olympic Province Advisory Committee (OPAC) will meet on Friday, August 27, 2004. The meeting will be held at the Forest Service Conference Room at the Forest Service Quinault office in Quinault, Washington. The meeting will begin at 9:30 a.m. and end at approximately 2:30 p.m. Agenda topics are: Current status of key Forest issues; update on Washington State Department of Ecology and Forest Service Memorandum of Understanding; update on owl management; Washington State Department of Natural Resources riparian management thinning; open forum; and public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: August 2, 2004.
Dale Hom,
Forest Supervisor, Olympic National Forest.

[FR Doc. 04-17972 Filed 8-5-04; 8:45 am]

BILLING CODE 3410-11-M